FEDERAL ELECTION COMMISSION

Sunshine Act Notices

AGENCY: Federal Election Commission.

Date and Time: Thursday, March 11,2010, at 10 a.m.

Place: 999 E Street, NW., Washington, DC (Ninth Floor)

Status: This meeting will be open to the public.

The following item has been added to the agenda for the above-captioned open meeting:

Discussion of Volunteer Materials Exemption

* * * * *

Date and Time: Wednesday, March 17, 2010 (Time TBD)

Place: 999 E Street, NW., Washington, DC.

Status: This meeting will be closed to the public.

Items To Be Discussed: Compliance matters pursuant to 2 U.S.C. 437g. Audits conducted pursuant to 2 U.S.C. 437g, 438(b), and Title 26, U.S.C. Matters concerning participation in civil actions or proceedings or arbitration. Internal personnel rules and procedures or matters affecting a particular employee.

* * * * *

Individuals who plan to attend and require special assistance, such as sign language interpretation or other reasonable accommodations, should contact Darlene Harris, Acting Commission Secretary, at (202) 694-1040, at least 72 hours prior to the hearing date.

Person To Contact For Information: Judith Ingram, Press Officer, Telephone: (202) 694-1220.

Darlene Harris,
Acting Secretary of the Commission.

[FR Doc. 2010-5287 Filed 3-11-10; 8:45 am]

BILLING CODE 6715-01-M